DEPARTMENT OF LABOR

Office of the Secretary

Submission for OMB Review; Comment Request

February 26, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of a currently approved collection.

Title: Quick Turnaround Surveys on Workforce Investment Act Implementation.

OMB Number: 1205-0436.

Frequency: On occasion.

Affected Public: State, Local or Tribal Government.

Number of Respondents: 5,000.

Number of Annual Responses: 5,000.

Estimated Time Per Response:

Upper-Bound and Lower-Bound Estimates of Total Burden Hours per Surveys
| Sample size | Number of questions | Average time per question | Aggregate burden hours per survey | Estimated number of surveys over 3 years | Total annual burden hours
Lower-Bound | 54 | 10 | 1 | 9 | 8 | 72
Upper-Bound | 250 | 30 | 3 | 375 | 20 | 7,500

Total Burden Hours: 7,500.

Description: ETA seeks an extension of clearance to collect data from state workforce agencies and local workforce investment areas on a quick turnaround basis. ETA proposes to conduct 8 to 20 short surveys of up to 30 questions that would provide timely information identifying the scope and magnitude of various practices or problems nationally. The surveys are needed to understand key operational issues in light of the Administration's policy priorities and the coming reauthorization of WIA and of other partner programs. Information from the surveys would used by ETA to fulfill its obligations to develop administrative guidance, regulations and technical assistance.

Ira L. Mills,
Departmental Clearance Officer.

[FR Doc. 04-4948 Filed 3-4-04; 8:45 am]

BILLING CODE 4510-30-P